DEPARTMENT OF LABOR

Employment and Training Administration

[TA-W-41,505]

Beacon Light Products Inc., Meridian, ID; Notice of Termination of Investigation

Pursuant to section 221 of the Trade Act of 1974, an investi-gation was initiated on May 13, 2002 in response to a petition filed by a company official, on behalf of workers at Beacon Light Products, Inc., Meridian, Idaho.

The petitioner has requested that the petition be withdrawn. Consequently, further investigation in this case would serve no purpose, and the investigation has been terminated.

Signed in Washington, DC this 15th day of July, 2002.
Linda G. Poole,
Certifying Officer, Division of Trade Adjustment Assistance.

[FR Doc. 02-19089 Filed 7-26-02; 8:45 am]

BILLING CODE 4510-30-P